DEPARTMENT OF ENERGY

Federal Energy Regulatory Commission

Combined Notice of Filings #1

July 2, 2008.

Take notice that the Commission received the following electric corporate filings:

Docket Numbers: EC08-105-000.

Applicants: Reliant Energy Mid-Atlantic Power Holdings, Reliant Energy New Jersey Holdings, LLC.

Description: Reliant Energy Mid-Atlantic Power Holdings, LLC et al. submits Application for Authorization under 203 of the Federal Power Act and Request for Waivers and Expedited Action.

Filed Date: 06/24/2008.

Accession Number: 20080626-0025.

Comment Date: 5 p.m. Eastern Time on Tuesday, July 15, 2008.

Take notice that the Commission received the following exempt wholesale generator filings:

Docket Numbers: EG08-76-000.

Applicants: Windthorst-1, LLC.

Description: Notice of Self Certification of Exempt Wholesale Generator Status of Windthorst-1, LLC.

Filed Date: 06/26/2008.

Accession Number: 20080626-5050.

Comment Date: 5 p.m. Eastern Time on Thursday, July 17, 2008.

Take notice that the Commission received the following electric rate filings:

Docket Numbers: ER94-1478-019.

Applicants: Electrade Corporation.

Description: Electrade Corp. submits an updated market power analysis and rate schedule revisions pursuant to Order 697 and 697-A.

Filed Date: 06/27/2008.

Accession Number: 20080701-0026.

Comment Date: 5 p.m. Eastern Time on Friday, July 18, 2008.

Docket Numbers: ER96-1551-020; ER01-615-016; ER07-965-002.

Applicants: Public Service Company of New Mexico; EnergyCo Marketing and Trading, LLC.

Description: Public Service Company of New Mexico and EnergyCo Marketing and Trading, LLC submits Substitute Original Sheet 6 et al. to the Revised Market-Based Rate Tariffs submitted 6/5/08.

Filed Date: 06/25/2008.

Accession Number: 20080626-0023.

Comment Date: 5 p.m. Eastern Time on Wednesday, July 16, 2008.

Docket Numbers: ER96-1947-022; ER07-1001-001; ER07-1100-001; ER02-1052-008.

Applicants: LS Power Marketing, LLC; Sugar Creek Power Company, LLC; Entergy Services, Inc.; West Georgia Generating Company, LLC.

Description: LS Power Development LLC et al. amends the May 2008 Filing and submits Substitute Fifth Revised Sheet 1 et al. to FERC Electric Tariff, First Revised Volume 1 in Compliance with Order 697.

Filed Date: 06/26/2008.

Accession Number: 20080701-0019.

Comment Date: 5 p.m. Eastern Time on Thursday, July 17, 2008.

Docket Numbers: ER97-851-017.

Applicants: Hydro-Quebec Energy Services (U.S.) Inc.

Description: HQ Energy Services (US) Inc. submits an updated market power analysis and conforming market-based rate tariff.

Filed Date: 06/26/2008.

Accession Number: 20080630-0016.

Comment Date: 5 p.m. Eastern Time on Thursday, July 17, 2008.

Docket Numbers: ER98-830-019; ER03-719-010.

Applicants: Millennium Power Partners, LP; New Athens Generating Company, LLC.

Description: New Athens Generating Co., LLC and Millennium Power Partners, LP submits their updated market power analyses triennial report in accordance with Order 697 etc.

Filed Date: 06/27/2008.

Accession Number: 20080701-0066.

Comment Date: 5 p.m. Eastern Time on Friday, July 18, 2008.

Docket Numbers: ER99-1757-015; EL05-67-003.

Applicants: Empire District Electric Company, The.

Description: The Empire District Electric Company submits its Refund Report.

Filed Date: 06/26/2008.

Accession Number: 20080626-5058.

Comment Date: 5 p.m. Eastern Time on Thursday, July 17, 2008.

Docket Numbers: ER99-3168-008; ER04-994-004; ER04-659-009; ER04-657-009; ER04-660-009.

Applicants: Astoria Generating Company, LP; Boston Generating, LLC; Fore River Development, LLC; Mystic I, LLC; Mystic Development, LLC.

Description: Astoria Generating Co., LP et al. submits an updated market power analysis and Order 697 and 697-A compliance filing.

Filed Date: 06/24/2008.

Accession Number: 20080626-0051.

Comment Date: 5 p.m. Eastern Time on Tuesday, July 15, 2008.

Docket Numbers: ER99-4102-007.

Applicants: Milford Power Co., LLC.

Description: Milford Power Company submits revised market-based tariff sheets reflecting the new tariff requirements established in Order 697 and 697-A.

Filed Date: 06/27/2008.

Accession Number: 20080701-0021.

Comment Date: 5 p.m. Eastern Time on Friday, July 18, 2008.

Docket Numbers: ER03-447-005.

Applicants: Black Oak Energy, LLC.

Description: Black Oak Energy, LLC submits its Order 697 Compliance Filing and application for Category 1 Status.

Filed Date: 06/25/2008.

Accession Number: 20080630-0010.

Comment Date: 5 p.m. Eastern Time on Wednesday, July 16, 2008.

Docket Numbers: ER03-770-004.

Applicants: AIG Energy Inc.

Description: AIG Energy, Inc submits their request for Category 1 Seller classification in accordance with the criteria set forth in Section 35.36(a)(2) of FERC's regulations.

Filed Date: 06/26/2008.

Accession Number: 20080630-0001.

Comment Date: 5 p.m. Eastern Time on Thursday, July 17, 2008.

Docket Numbers: ER03-774-008.

Applicants: Eagle Energy Partners I, L.P.

Description: Eagle Energy Partners I, LP submits Notice of Non-Material Change in Status to inform the Commission of a non-material change from the characteristics upon which the Commission relied in granting Eagle market-based rate etc.

Filed Date: 06/25/2008.

Accession Number: 20080626-0078.

Comment Date: 5 p.m. Eastern Time on Wednesday, July 16, 2008.

Docket Numbers: ER04-31-002; ER07-808-001; ER06-1233-001; ER06-1230-001; ER06-1231-001; ER06-1232-002.

Applicants: Epic Merchant Energy, L.P.; Epic Merchant Energy CA, LLC; EPIC Merchant Energy Midwest, L.P.; EPIC Merchant Energy NY, L.P.; EPIC NJ PA, L.P.

Description: EPIC Merchant Energy, LP et al. submits an application for determination of Category 1 Status.

Filed Date: 06/25/2008.

Accession Number: 20080626-0068.

Comment Date: 5 p.m. Eastern Time on Wednesday, July 16, 2008.

Docket Numbers: ER04-170-007.

Applicants: MxEnergy Electric Inc.

Description: MXenergy Electric Inc submits the regional schedule set in Appendix D-2 of Order 697-A, request for Category 1 Seller classification in accordance with criteria set forth in section 35.36(a)(2) of the Commission's regulations.

Filed Date: 06/24/2008.

Accession Number: 20080626-0030.

Comment Date: 5 p.m. Eastern Time on Tuesday, July 15, 2008.

Docket Numbers: ER04-222-006.

Applicants: CPV Milford, LLC.

Description: CPV Milford, LLC submits a market power update in compliance with FERC's Order 697.

Filed Date: 06/27/2008.

Accession Number: 20080701-0027.

Comment Date: 5 p.m. Eastern Time on Friday, July 18, 2008.

Docket Numbers: ER04-381-002; ER06-914-002; ER06-912-002; ER06-913-002; ER05-1467-001; ER08-632-002; ER08-731-001.

Applicants: DC Energy, LLC; DC Energy New England, LLC; DC Energy New York, LLC; DC Energy Mid-Atlantic, LLC; DC Energy Midwest, LLC; DC Energy Texas, LLC; DC Energy California, LLC.

Description: DCE Entitles submits compliance filing, an update market power analysis, and request for determination of Category 1 Seller status.

Filed Date: 06/24/2008.

Accession Number: 20080626-0031.

Comment Date: 5 p.m. Eastern Time on Tuesday, July 15, 2008.

Docket Numbers: ER05-235-003.

Applicants: El Paso Marketing, L.P.

Description: Petition requesting classification as category 1 seller pursuant to order 697 and market-based rate compliance filings re El Paso Marketing, LP.

Filed Date: 06/25/2008.

Accession Number: 20080626-0067.

Comment Date: 5 p.m. Eastern Time on Wednesday, July 16, 2008.

Docket Numbers: ER05-287-004.

Applicants: Granite Ridge Energy, LLC.

Description: Granite Ridge Energy, LLC submits its updated market power analysis (Triennial Report).

Filed Date: 06/27/2008.

Accession Number: 20080701-0068.

Comment Date: 5 p.m. Eastern Time on Friday, July 18, 2008.

Docket Numbers: ER05-330-002.

Applicants: City Power Marketing LLC.

Description: City Power Marketing, LLC request for determination by the Commission that it qualifies as a Category 1 Seller pursuant to Section 205 of the FPA etc.

Filed Date: 06/26/2008.

Accession Number: 20080630-0014.

Comment Date: 5 p.m. Eastern Time on Thursday, July 17, 2008.

Docket Numbers: ER05-493-002; ER05-494-002; ER05-495-002; ER08-901-002.

Applicants: Saracen Energy LP; Saracen Energy Power Advisors LP; Saracen Merchant Energy LP; Saracen Energy Partners, LP.

Description: Saracen Energy, LP et al. submits an updated market power analysis and rate schedule revisions.

Filed Date: 06/25/2008.

Accession Number: 20080626-0066.

Comment Date: 5 p.m. Eastern Time on Wednesday, July 16, 2008.

Docket Numbers: ER05-1218-003; ER05-1219-003; ER96-149-013; ER97-2414-012; ER00-2887-006; ER06-703-002; ER07-1341-003.

Applicants: Bayonne Plant Holding, L.L.C.; Camden Plant Holding, L.L.C.; Dartmouth Power Associates Limited Partn; Lowell Cogeneration Company Limited Part; Newark Bay Cogeneration Partnership, L.P; Pedricktown Cogeneration Company, LP; York Generation Company LLC.

Description: Bayonne Plant Holding, LLC et al. submits an updated market power analysis in compliance with FERC's Order 697-A.

Filed Date: 06/26/2008.

Accession Number: 20080630-0008.

Comment Date: 5 p.m. Eastern Time on Thursday, July 17, 2008.

Docket Numbers: ER05-1262-016; ER06-1093-012.

Applicants: Flat Rock Windpower LLC; Flat Rock Windpower II LLC.

Description: Flat Rock Windpower, LLC submits an updated market power anlysis in compliance with the requirements of Section 35.37 of the regulations of FERC's Order 697-A.

Filed Date: 06/26/2008.

Accession Number: 20080630-0002.

Comment Date: 5 p.m. Eastern Time on Thursday, July 17, 2008.

Docket Numbers: ER06-386-002; ER02-1632-004; ER03-1088-003; ER05-1280-003.

Applicants: Direct Energy Services, LLC; Energy America LLC; Direct Energy Marketing Inc.; Strategic Energy LLC.

Description: Application for determination of category 1 status, providing revised market-based rate tariff sheets and reporting change in facts relating to market-based rate authority re Direct Energy Services, LLC et al.

Filed Date: 06/24/2008.

Accession Number: 20080626-0032.

Comment Date: 5 p.m. Eastern Time on Tuesday, July 15, 2008.

Docket Numbers: ER06-713-002.

Applicants: Weyerhaeuser Company.

Description: Weyerhaeuser Company submits their triennial market power update and amendments to their market-based rate tariff.

Filed Date: 06/27/2008.

Accession Number: 20080701-0028.

Comment Date: 5 p.m. Eastern Time on Friday, July 18, 2008.

Docket Numbers: ER06-1220-001.

Applicants: USEG, LLP.

Description: USEG, LLP submits an updated market power analysis and rate schedule revisions.

Filed Date: 06/25/2008.

Accession Number: 20080626-0038.

Comment Date: 5 p.m. Eastern Time on Wednesday, July 16, 2008.

Docket Numbers: ER06-1364-001.

Applicants: International Paper Company.

Description: International Paper Co submits the triennial market power update and amendments to its market-based rate tariff.

Filed Date: 06/27/2008.

Accession Number: 20080701-0029.

Comment Date: 5 p.m. Eastern Time on Friday, July 18, 2008.

Docket Numbers: ER07-501-009; ER08-649-004; ER06-739-013; ER06-738-013; ER03-983-011; ER07-758-007; ER02-537-015.

Applicants: Birchwood Power Partners, L.P.; EFS Parlin Holdings, LLC; East Coast Power Linden Holding, LLC; Cogen Technologies Linden Venture, L.P.; Fox Energy Company LLC; Inland Empire Energy Center, L.L.C.; Shady Hills Power Company, L.L.C.

Description: GE Energy Financial Services Inc submits Notice of Change in Status.

Filed Date: 06/27/2008.

Accession Number: 20080627-5078.

Comment Date: 5 p.m. Eastern Time on Friday, July 18, 2008.

Docket Numbers: ER07-522-003; ER06-1122-003.

Applicants: Old Trail Wind Farm, LLC; High Trail Wind Farm, LLC.

Description: Old Trail Wind Farm, LLC and High Trail Wind Farm, LLC submits their updated market power analysis in compliance with Order 697-A.

Filed Date: 06/26/2008.

Accession Number: 20080630-0009.

Comment Date: 5 p.m. Eastern Time on Thursday, July 17, 2008.

Docket Numbers: ER07-769-001.

Applicants: Cedar Rapids Transmission Company, Ltd.

Description: Cedar Rapids Transmission Co, Ltd submits an updated market power analysis and revised market-based rate tariff.

Filed Date: 06/27/2008.

Accession Number: 20080701-0051.

Comment Date: 5 p.m. Eastern Time on Friday, July 18, 2008.

Docket Numbers: ER07-892-001.

Applicants: Louis Dreyfus Energy Services L.P.

Description: Louis Dreyfus Energy Services, LP submits an update market power analysis and tariff revisions.

Filed Date: 06/25/2008.

Accession Number: 20080626-0063.

Comment Date: 5 p.m. Eastern Time on Wednesday, July 16, 2008.

Docket Numbers: ER07-907-001.

Applicants: Bruce Power Inc.

Description: Bruce Power Inc submits an updated market analysis in compliance with requirements of sections 35.37 of the regulations of the FERC etc.

Filed Date: 06/27/2008.

Accession Number: 20080701-0024.

Comment Date: 5 p.m. Eastern Time on Friday, July 18, 2008.

Docket Numbers: ER07-936-001; ER07-958-001.

Applicants: Rumford Power Inc., Tiverton Power Inc.; Rumford Power Inc.

Description: Rumford Power, Inc et al. submits an updated market power analysis and Appendix B list of generation and transmission assets.

Filed Date: 06/27/2008.

Accession Number: 20080701-0025.

Comment Date: 5 p.m. Eastern Time on Friday, July 18, 2008.

Docket Numbers: ER08-92-005.

Applicants: Virginia Electric and Power Company.

Description: Virginia Electric and Power Co submits Substitute Original Sheet 314F.14, FERC Electric Tariff, Sixth Revised Volume 1.

Filed Date: 06/26/2008.

Accession Number: 20080627-0008.

Comment Date: 5 p.m. Eastern Time on Thursday, July 17, 2008.

Docket Numbers: ER08-394-003.

Applicants: Midwest Independent Transmission System Operator, Inc.

Description: Midwest Independent Transmission System Operator, Inc submits its Open Access Transmission and Energy Markets Tariff to include RAR financial settlement provisions, in compliance with Commission's directives.

Filed Date: 06/25/2008.

Accession Number: 20080626-0062.

Comment Date: 5 p.m. Eastern Time on Wednesday, July 16, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-16200 Filed 7-14-08; 8:45 am]

BILLING CODE 6717-01-P